DEPARTMENT OF TRANSPORTATION

Federal Aviation Administration

Approval of Noise Compatibility Program Update for Lehigh Valley International Airport, Allentown, PA

AGENCY: Federal Aviation Administration (FAA), DOT.

ACTION: Notice.

SUMMARY: The Federal Aviation Administration (FAA) announces its findings on the noise compatibility program submitted by the Lehigh-Northampton Airport Authority under the provisions of 49 U.S.C. (the Aviation Safety and Noise Abatement Act, hereinafter referred to as “the Act”) and 14 CFR Part 150. These findings are made in recognition of the description of Federal and nonfederal responsibilities in Senate Report No. 96-52 (1980). On May 14, 2004 the FAA determined that the noise exposure maps submitted by the Lehigh-Northampton Airport Authority under Part 150 were in compliance with applicable requirements. On October 7, 2005, the FAA approved the Lehigh Valley International Airport's updated noise compatibility program. Most of the recommendations of the program update were approved. One program element relating to revised flight procedures for noise abatement was proposed by the airport operator and was approved in part, as a voluntary measure, and disapproved in part. Only one noise abatement element was disapproved for purposes of Part 150 pending submission of additional information needed to make an informed analysis. The Lehigh-Northampton Airport Authority has also requested under FAR Part 150, section 150.35(f), that FAA determine that the revised five-year forecast condition NEM submitted with the noise compatibility program and showing noise contours as a result of the implementation of the noise compatibility program is in compliance with applicable requirements of FAR Part 150. The FAA announces its determination that the revised five-year forecast condition NEW for the Lehigh Valley International Airport for the year 2008 submitted with the noise compatibility program is in compliance with applicable requirements of FAR Part 150 effective October 31, 2005. The documentation that constitutes the revised five-year forecast condition NEM as defined in §§ 150.7 and 150.101(e) of Part 150 includes but is not limited to: Sections 2.2 and 2.3, Figure 3, and Table 3 in the NCP Update, and Figure 11 and Figures 36 through 45 in the NEM volume. The FAA has determined that this revised five-year forecast condition NEM and accompanying documentation are in compliance with applicable requirements.

DATES: The effective date of the FAA's approval of the Lehigh Valley International Airport's noise compatibility program update is October 7, 2005. The effective date of the FAA's determination on the revised five-year forecast condition NEM is October 31, 2005.

FOR FURTHER INFORMATION CONTACT: Edward S. Gabsewics, CEP, Environmental Protection Specialist, Federal Aviation Administration, Harrisburg Airports District Office, 3905 Hartzdale Drive, Suite 508, Camp Hill, PA 17011, Telephone 717-730-2832. Documents reflecting this FAA action may be reviewed at this same location.

SUPPLEMENTARY INFORMATION: This notice announces that the FAA has given its overall approval to the noise compatibility program update for the Lehigh Valley International Airport, effective October 7, 2005, and that the revised five-year forecast condition NEM for 2008 for this same airport is determined to be in compliance with applicable requirement of FAR Part 150.

A. Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

1. The noise compatibility program was developed in accordance with the provisions and procedures of FAR Part 150;

2. Program measures are reasonably consistent with achieving the goals of reducing existing non-compatible land uses around the airport and preventing the introduction of additional non-compatible land uses;

3. Program measures would not create an undue burden on interstate or foreign commerce, unjustly discriminate against types or classes of aeronautical uses, violate the terms of airport grant agreements, or intrude into areas preempted by the Federal Government; and

4. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Camp Hill, Pennsylvania.

In December 2003, the Lehigh-Northampton Airport Authority submitted its updated noise exposure maps to the FAA along with descriptions and other documentation produced during the noise compatibility planning study initiated in 2002. The Lehigh Valley International Airport's updated noise exposure maps were determined by FAA to be in compliance with applicable requirements on May 14, 2004. Notice of this determination was published in the Federal Register on May 28, 2004.

The Lehigh Valley International Airport study contains a proposed noise compatibility program update comprised of actions designed for phased implementation by airport management and adjacent jurisdictions from 2005 to 2008. It was requested that the FAA evaluate and approve this material as a noise compatibility program as described in section 47504 of the Act. The FAA began its review of the program on April 12, 2005 and was required by a provision of the Act to approve or disapprove the program within 180 days (other than the use of new or modified flight procedures for noise control). Failure to approve or disapprove such program within the 180-day period shall be deemed to be an approval of such program.

The submitted noise compatibility program update contained twenty proposed actions for noise mitigation (six noise abatement elements, five lands use elements, and nine implementation program elements). The FAA completed its review and determined that the procedural and substantive requirements of the Act and FAR Part 150 have been satisfied. The overall program, therefore, was approved by the FAA effective October 7, 2005.

Approval was granted in whole or in part for nineteen of the twenty proposed action elements in the noise compatibility program update. Three elements were approved as voluntary measures and one was approved in part as a voluntary measure and disapproved in part. Only one element was disapproved for Part 150 purposes.

Noise abatement element 2 (recommending an amendment to the existing FAA-approved voluntary NCP measure which calls for the ATCT to assign Runway 31 departures a turn to a 360 degree heading as soon as practical) was disapproved in part based on concerns voiced by the ATCT. Noise abatement element 5 was disapproved for purposes of Part 150 pending submission of additional information to make an informed analysis about its noise benefits.

These determinations are set forth in detail in a Record of Approval signed by the Associate Administrator for Airports on October 7, 2005. The Record of Approval, as well as other evaluation materials and the documents comprising the submittal, are available for review at the FAA office listed above and at the administrative offices of the Lehigh-Northampton Airport Authority. The Record of Approval also will be available on-line at http://www.faa.gov/arp/environmental/14cfr150/index14.cfm.

B. The FAA also has completed its review of the revised five-year forecast condition NEM and related descriptions submitted by Lehigh-Northampton Airport Authority. The specific map under consideration is included in the NCP Update submission as Figure 3. This map is supported by Sections 2.2 and 2.3, Figure 3, and Table 3 in the NCP Update, and Figure 11 and Figures 36 through 45 in the NEM volume. The FAA has determined that this revised five-year forecast condition NEM map for the Lehigh Valley International Airport is in compliance with applicable requirements. This determination is effective on October 31, 2005. FAA's determination on an airport operator's noise exposure maps is limited to a finding that the maps were developed in accordance with the procedures contained in Appendix A of FAR Part 150. Such determination does not constitute approval of the applicant's data, information or plans.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the revised five-year forecast condition NEM and of the FAA's evaluation of the revised NEM, and copies of the record of approval and other evaluation materials and documents which comprised the submittal to the FAA are available for examination at the following locations:

Federal Aviation Administration Harrisburg Airports District Office, 3905 Hartzdale Drive, Suite 508, Camp Hill, PA 17011 and Lehigh-Northampton Airport Authority, 3311 Airport Road, Allentown, PA 18109.

Questions on either of these FAA determinations may be directed to the individual named above under the heading FOR FURTHER INFORMATION CONTACT.

Dated: Issued in Camp Hill, Pennsylvania, October 31, 2005.
Wayne T. Heibeck,
Manager, Harrisburg Airports District Office.

[FR Doc. 05-22492 Filed 11-10-05; 8:45 am]

BILLING CODE 4910-13-M